SECURITIES AND EXCHANGE COMMISSION

Sunshine Act Meetings

Notice is hereby given, pursuant to the provisions of the Government in the Sunshine Act, Pub. L. 94-409, that the Securities and Exchange Commission will hold the following meetings during the week of June 14, 2004:

An open meeting will be held on Tuesday, June 15, 2004, at 10 a.m. in Room 6600; a closed meeting will be held on Tuesday, June 15, 2004, at 11 a.m.; and a Closed Meeting will be held on Thursday, June 17, 2004, at 2 p.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (6), (7), (9)(B), and (10) and 17 CFR 200.402(a)(3), (5), (6), (7), 9(ii) and (10), permit consideration of the scheduled matters at the Closed Meetings.

Commissioner Campos, as duty officer, voted to consider the items listed for the closed meetings in closed sessions.

The subject matter for the Open Meeting scheduled for Tuesday, June 15, 2004, will be:

1. The Commission will hear oral argument on an appeal by Edgar B. Alacan (“Alacan”), a former registered representative of J.W. Barclay & Co., Inc., a former broker-dealer, from the decision of an administrative law judge. The law judge found that Alacan violated antifraud provisions of the Federal securities laws through unauthorized trading, unsuitable trading, churning, and failures to follow customers' instructions in connection with his handling of the accounts of several customers during 1997 and 1998.

Among the issues likely to be argued are:

a. Whether the evidence supports the law judge's findings that Alacan violated the antifraud provisions;

b. Whether and to what extent sanctions should be imposed in the public interest.

The subject matter for the closed meeting scheduled for Tuesday, June 15, 2004, will be: Post-argument discussion.

The subject matter for the closed meeting scheduled for Thursday, June 17, 2004, will be: Formal orders of investigation; Institution and settlement of injunctive actions; Institution and settlement of administrative proceedings of an enforcement nature; Litigation matter; and Amici.

At times, changes in Commission priorities require alterations in the scheduling of meeting items. For further information and to ascertain what, if any, matters have been added, deleted or postponed, please contact: the Office of the Secretary at (202) 942-7070.

Dated: June 8, 2004.
Jill M. Peterson,
Assistant Secretary.

[FR Doc. 04-13353 Filed 6-8-04; 3:50 pm]

BILLING CODE 8010-01-P